DEPARTMENT OF THE INTERIOR

Fish and Wildlife Service

Intent To Prepare a Joint Environmental Impact Statement/Environmental Impact Report for the Reintroduction of the Riparian Brush Rabbit

AGENCY: Fish and Wildlife Service, Interior (Lead Agency).

ACTION: Notice of intent.

SUMMARY: The Fish and Wildlife Service (Service), Bureau of Reclamation (Reclamation), California Department of Fish and Game (CDFG), and the Endangered Species Recovery Program (ESRP) through California State University, Stanislaus, propose to participate in the reintroduction of the riparian brush rabbit (Sylvilagus bachmani riparius), which is federally listed as endangered, to restored riparian habitat.

The strategy for the conservation (i.e. recovery) of the riparian brush rabbit was published in the Recovery Plan for the Upland Species of the San Joaquin Valley (U.S. Fish and Wildlife Service 1998). This recovery plan outlines research and management actions necessary to support recovery of the species. It is the intent of the Service to recover federally listed species through actions which will lead to the maintenance of secure, self-sustaining wild populations of species with the minimum necessary investment of resources. In the case of a species as at risk of extinction as the riparian brush rabbit, efforts necessary to bring about recovery often require extraordinary measures. Because of the small size of remaining blocks of potential habitat, and the severely limited dispersal capability of the riparian brush rabbit, the brush rabbit is likely to require continuing special protection of its habitat and population. More specifically, captive breeding is needed to increase riparian brush rabbit numbers and preserve genetic diversity. Additionally, the release of their progeny will be needed to enhance existing populations as necessary and to establish reintroduced populations within the historic range.

The action proposed in this Notice of Intent, the reintroduction of riparian brush rabbits to restored riparian habitat, is considered a beneficial action. The Service does, however, recognize that there may be impacts to the human environment associated with reintroduction.

This notice describes the proposed action and possible alternatives, invites public participation in the scoping process for preparing the joint Environmental Impact Statement/Environmental Impact Report, solicits written comments, and identifies the Service Official to whom questions and comments concerning the proposed action and the Environmental Impact Statement may be directed.

DATES: A public scoping meeting to solicit public comment on the proposed action and alternatives will be held on August 16, 2000, at the Manteca library, Manteca, California from 4:30 to 6:30 p.m. Written comments are encouraged and should be received on or before August 28, 2000.

ADDRESSES: Information, comments, or questions related to preparation of the Environmental Impact Statement and the National Environmental Policy Act process should be submitted to Wayne White, Field Supervisor, U.S. Fish and Wildlife Service, Sacramento Fish and Wildlife Office, 2800 Cottage Way, W-2605, Sacramento, California 95825. Written comments may also be sent by facsimile to (916) 414-6713. All comments, including names and addresses, will become part of the administrative record and may be released.

FOR FURTHER INFORMATION CONTACT: Questions regarding the scoping process or preparation of the Environmental Impact Statement may be directed to Ms. Heather Bell, U.S. Fish and Wildlife Service, 2800 Cottage Way, Suite W-2605, Sacramento, CA 95825-1888 (telephone 916-414-6600; email heather_bell@fws.gov) for questions concerning the Environmental Impact Report process under the California Environmental Quality Act, please contact Mr. Ron Schlorff, California Department of Fish and Game, 1416 9th Street, Sacramento, CA 95814-5509 (telephone 916-654-4262; email rschlorf@dfg.ca.gov).

SUPPLEMENTARY INFORMATION:

Background

Only two very small populations of riparian brush rabbit are known to exist (a population in Caswell Memorial State Park [MSP] and one in the Delta. Both populations face severe and proximate extinction due to various factors. One goal in the Conservation Recommendations for the riparian brush rabbit, as identified in the Recovery Plan for Upland Species of the San Joaquin Valley (Recovery Plan) (U.S. Fish and Wildlife Service 1998), is the reestablishment of at least three wild populations, in addition to the one at Caswell MSP, each with no less than 300 adults during average years during a precipitation cycle in the San Joaquin Valley in restored and expanded suitable habitat within the rabbit's historic range. Because the Caswell MSP and Delta populations remain in isolated pockets of habitat, and the species exhibits low vagility (ability to move between patches of habitat), the natural process of repatriation (dispersal into remaining habitat) is improbable. Reintroductions from existing populations are required to achieve the goal of establishing three wild populations. An action identified in the Recovery Plan which will help to accomplish this is the implementation of a captive breeding program and a reintroduction program. The Caswell MSP population is currently too small, nonproductive, and lacking in sufficient genetic variety to serve as the best source of rabbits for direct reintroduction. The Delta population has somewhat greater genetic diversity and, therefore, is intended to be used as the source of individuals for the captive breeding program. Captive breeding will take place on land owned by the California Department of Water Resources within large enclosed pens of natural habitat. The captive breeding program is designed to produce enough individuals with the highest possible genetic variability for reintroduction. The reintroduction would involve preparation of a reintroduction plan, site assessments, and varying degrees of riparian restoration, refugia construction, hunting restrictions, fire management, and finally, monitoring to insure that site specific goals as well as recovery goals are being met. Alternatives are being sought as to where and under what conditions populations will be reestablished through reintroduction.

Project Location

The reintroduction sites are yet to be determined, however, the general area for reintroduction will be within the historic range of the riparian brush rabbit. The riparian brush rabbit most likely ranged throughout the extensive riparian forests along major streams flowing onto the floor of the northern San Joaquin Valley (64 FR 8881). This includes the San Joaquin River and its tributaries, one of which is the Stanislaus River, current site of the Caswell MSP population. We also now have confirmation that the riparian brush rabbit extends northward into the Delta (Dr. Daniel Williams, CSU, Stanislaus, pers. comm. 1999). Directed restoration of habitat for the reintroduction of riparian brush rabbits will be conducted and coordinated with several other agencies who are restoring riparian habitat, as well as willing private landowners. For example, the U.S. Army Corps of Engineers is restoring riparian habitat for ecosystem functioning and improved flood flow capacity along the Stanislaus and San Joaquin Rivers. Reclamation also has authority and funding for conservation of natural resources; it allocates funds—through the Central Valley Project Improvement Act—for the restoration of habitats impacted by the Central Valley Project. Furthermore, the Service is expanding the San Joaquin River National Wildlife Refuge to provide protection and potential enhancement of essential habitat for the riparian brush rabbit and other species. It is anticipated that the Refuge land will be the first site available to receive rabbits. Specific site locations for reintroduction will be ranked based on a set of requirements proposed below. Tiered environmental documents would be prepared once site locations have been identified.

Proposed Action

The 1998 Recovery Plan for Upland Species of the San Joaquin Valley (U.S. Fish and Wildlife Service 1998) identifies the conservation strategy for the riparian brush rabbit which involves implementation of a captive breeding program and an accompanying reintroduction program as a means to achieve recovery. The captive breeding program would provide animals for the establishment of at least three wild populations (additional to the Caswell MSP population) in the San Joaquin Valley, in restored and expanded suitable habitat within the rabbit's historic range. It is anticipated that the Reintroduction program would consist of at least the following elements: (1) Preparation of a reintroduction plan; (2) development of site assessment criteria; (3) restoration of riparian habitat, as appropriate, at chosen sites; (4) construction of appropriate refugia (from flooding); (5) implementation of hunting restrictions; (6) fire management; and (7) implementation of a monitoring program to track the progress of the Reintroduction program.

Specific site locations for reintroduction within the historic range will be ranked based on a set of additional criteria which will include but are not limited to the following factors:

• Assessment of disease risk,

• Public or private ownership of property,

• Assessment of flood risk and availability of refugia during high water,

• Degree of riparian restoration required, and

• Degree of land use conflict.

Funding for the Reintroduction program for riparian brush rabbits is anticipated to come from several public agencies and associated programs including, but not necessarily limited to the Service, Reclamation, CDFG, and the CALFED (a program formalized by a Framework Agreement where State and Federal agencies work together on Bay-Delta Estuary management issues) program.

More cooperators are possible as the process continues. Potential partners include: Natural Resources Conservation Service, U.S. Department of Agriculture, U.S. Army Corps of Engineers, U.S. Department of the Army, California Department of Parks and Recreation, California Department of Water Resources, California Reclamation Board, and other public and private owners of riparian or riverbank land.

This action is being proposed under the authority of the Endangered Species Act of 1973, as amended. Take authorization under section 10(a)(1)(A) of the Endangered Species Act would be issued to ESRP to carry out the capture, propagation, and reintroduction program.

Alternatives

Over the past several years, the Service and Reclamation have been working together to prevent extirpation of the riparian brush rabbit at Caswell MSP. Due to the low numbers of individuals following the floods in January of 1997 and 1998 and the sluggish increase since then, we began deliberating the implementation of a captive breeding program to augment the population and provide individuals for reestablishment of populations within historic habitat. Reestablishment, through reintroduction, will protect the species from catastrophic events, such as flooding, which could lead to extinction. With the discovery that another population of riparian brush rabbits exist on private land in the Delta, and that this population is at risk due to both human activities (fire control measures and habitat conversion) and catastrophic events (wildfire), completing the facility for the captive breeding program became urgent. Rabbits are scheduled to be brought into captivity in the fall of 2000, and reintroductions are projected to begin in the fall of 2001. This necessitates establishing a reintroduction program expediently and beginning preparation of sites as soon as possible. Therefore, we need to determine where and under what conditions populations will be reestablished through reintroduction. Reintroduction choices might include:

• Private versus government land,

• Existing habitat versus restored or enhanced habitat, or

• Sites at or near Caswell MSP, the capture area in the Delta, San Joaquin National Wildlife Refuge, or at other locations in the brush rabbit's historical range.

Several considerations have influenced the alternatives we are considering. We will be choosing reintroduction sites within the historic range of the riparian brush rabbit. The riparian brush rabbit probably inhabited much of the riparian habitat that existed historically along the rivers and sloughs on the valley floor of the northern San Joaquin Valley. However, most of the original riparian woodland and brushland has been destroyed. We plan to choose specific sites according to their rank based on the factors needed for the habitat to be suitable. To reduce potential land use conflicts, we will concentrate our efforts on public lands, with the possibility of incorporating adjacent areas where conservation easements or fee title acquisitions may become available from willing sellers.

Another consideration that we expect to be important to the success of reintroduction is the relative ease of management of the reintroduction sites. The flood events of recent years demonstrate the value of having flood refugia in areas to be managed for riparian brush rabbits. Similarly, recent fires in the Delta area where brush rabbits have been found demonstrate the importance of being able to manage fire breaks, fuel loads, and water supplies for fire suppression to insure the safety of the brush rabbits, as well as minimizing risks to human property and safety.

One of the types of land we are strongly considering is National Wildlife Refuge land. Management for good ecosystem functioning, healthy populations of native wildlife species, and conservation of endangered species is already part of the recognized purpose of Refuge lands, and preliminary discussions with National Wildlife Refuge managers indicate they are willing to participate in reestablishing riparian brush rabbits on the Refuges. Other properties, already in government ownership or available from willing sellers, are also being considered. We do not foresee conflicts between rabbit reintroduction and most neighboring land uses because riparian brush rabbits remain near brush cover. However, we know that we must give careful consideration to the compatibility of brush rabbit management with the existing purposes and uses of such lands. This issue, in particular, is one for which we are seeking public input. We want to consider all possible conflicts. We welcome suggestions for sites with potential habitat and harmonious land uses. Please be sure to include as much information on these points as possible in your comments to us.

The Environmental Impact Statement will consider the proposed action (reintroduction of the riparian brush rabbit into restored historic habitat) and reasonable alternatives. Potential alternatives may include the reintroduction of rabbits only in areas of existing riparian habitat, and the “No Action” alternative. The preferred alternative (the proposed action) entails assessing an array of sites for suitability, managing to maximize ecosystem function and safety, and implementing controlled reintroductions as the suitability of each site becomes adequate and as the number of rabbits available becomes sufficient. The potential alternative of reintroducing riparian brush rabbits into areas of existing riparian habitat has limitations as there is little publically owned land which has existing riparian habitat that would immediately be suitable for rabbits during flooding events. The No Action alternative is one in which no reintroduction of the riparian brush rabbits will take place, with the resulting probability of their extinction. As a result of the scoping process, it is expected that these preliminary project alternatives will be further refined and/or additional alternatives considered. Once identified, the final alternatives will be carried forward into detailed analyses pursuant to the National Environmental Policy Act (NEPA) of 1969, as amended (42 U.S.C. 432 et seq.) and the California Environmental Quality Act (CEQA) of 1970, as amended (Public Resources Code, Section 21000-21177).

Potential impacts identified thus far include possible land use restrictions (hunting, rodenticide use, vegetation management, levee maintenance), economic impacts (conservation and flood easement restriction enforcement, land acquisition, riparian restoration, nonnative species control, fire management, species and habitat monitoring, perceived devaluation of property values), impacts to the riparian brush rabbit (mortality during acclimation, disease transference), and cultural resource impacts due to riparian restoration or refugia construction.

Scoping Process

The Service and the CDFG are preparing a joint Environmental Impact Statement/Report (EIS/R) to address potential impacts associated with implementing their respective discretionary actions for the proposed project. The Service is the lead Federal agency and Reclamation is a cooperator for compliance with NEPA for the Federal aspects of the project, and the CDFG is the lead State agency for compliance with CEQA for the non-Federal aspects of the project. The Draft EIS/R (DEIS/R) document will incorporate public concerns in the analysis of impacts associated with the Proposed Action and associated project alternatives. The DEIS/R will be sent out for a minimum 45-day public review period, during which time both written and verbal comments will be solicited on the adequacy of the document. The Final EIS/R (FEIS/R) will address the comments received on the DEIS/R during public review, and will be furnished to all who commented on the DEIS/R, and made available to anyone who requests a copy during a minimum 30-day period following publication of the FEIS/R. The final steps involve, for the Federal EIS, preparing a Record of Decision (ROD) and, for the State EIR, certifying the EIR and adopting a Mitigation Monitoring and Reporting Plan. The ROD is a concise summary of the decisions made by the Service (in cooperation with Reclamation) from among the alternatives presented in the FEIS/R. A certified EIR indicates that the environmental document has been completed in compliance with CEQA, that the decision-making body of the lead agency reviewed and considered the FEIR prior to approving the project; and that the FEIR reflects the lead agency's independent judgement and analysis.

This notice is provided pursuant to regulations for implementing the National Environmental Policy Act of 1969 (40 CFR 1506.6).

Dated: July 10, 2000.
John Engbring,
Acting Manager, California/Nevada Operations Office, Region 1, Sacramento, California.

[FR Doc. 00-17986 Filed 7-27-00; 8:45 am]

BILLING CODE 4310-55-P